DEPARTMENT OF ENERGY

Federal Energy Regulatory Commission

Notice Regarding Voluntary Identification of New Filings Made With the Commission

March 29, 2000.

This notice offers an optional and voluntary means for identification of new filings made with the Commission. Identification of filings as described below will help (1) ensure proper identification of filings, and (2) expedite the initial routing of filings within the Commission.

The filings covered by the optional procedures set out in this Notice are filings that need docket number assignment, i.e., newly-docketed filings, such as pipeline certificate applications, applications for merger authority, applications for hydroelectric licensing, electric or gas rate filings, complaints, petitions for declaratory order. These optional procedures do not apply to interventions, comments, requests for rehearing, or the like, since these filings can be routed according to the docket number assigned to the filing initiating the proceeding.

The Commission receives many types of new filings requesting various forms of action. Upon receipt of these filings, it is currently incumbent upon the staff of the Secretary of the Commission (with advice from technical and legal staff) to determine the type of filing and how best to route that filing through the Commission for processing. However, if filings were more easily identifiable when filed, filings could be routed for processing faster, allowing processing time to be reduced accordingly. Additionally, as the Commission moves toward implementation of electronic filing, easy and expeditious identification of filings may become more critical for successful routing.

In order to assist filers in identifying filings, an Appendix is attached for reference. The Appendix lists filing types, a brief description of each filing type, and the related statutory reference. Filers may, at their discretion, submit a copy of the appropriate Appendix page with the type of filing highlighted or marked (by placing an ‘X’ in the box in front of the filing type). If a filer chooses to take this approach, all relevant filing types should be designated. For example, it could be necessary for a filer to submit an application for merger authority, and a new open access tariff. In such an instance, the filer would want to mark two types of filings: (1) application for merger authority, and (2) tariff-transmission. We also take this opportunity to suggest that filers inform the Commission of any related filings or proceedings in their transmittal (or cover) letters.

Please note that this approach for identifying new filings is an option that may or may not be adopted by a filer. The Appendix may be used immediately, and may be downloaded from our web site at http://www.ferc.fed.us/online/rims.htm. Due to technical difficulties the Appendix will not be available on the Commission's Issuance Posting System (CIPS). Alternatively, copies of this notice are on file with the Commission and are available for public inspection in the Public Reference Room. Any questions about or comments on this optional procedure may be directed to David P. Boergers, Secretary, Federal Energy Regulatory Commission, 888 First Street, NE, Washington, DC 20426, (202) 208-0400.

Linwood A. Watson, Jr.,
Acting Secretary.

[FR Doc. 00-8274 Filed 4-3-00; 8:45 am]

BILLING CODE 6717-01-M